DEPARTMENT OF THE INTERIOR

Bureau of Land Management

[LLMTB072000-L14300000-ET0000; MTM 98499]

Notice of Proposed Withdrawal and Opportunity for Public Meeting; Montana

AGENCY: Bureau of Land Management, Interior.

ACTION: Notice.

SUMMARY: The Assistant Secretary for Land and Minerals Management proposes to withdraw, on behalf of the Bureau of Land Management (BLM), approximately 18,760 acres of public land located in Broadwater County, Montana, from settlement, sale, location, and entry under the general land laws, including the United States mining laws, but not the mineral leasing laws for a period of 5 years to protect the Limestone Hills Training Area pending the processing of an application for withdrawal of those lands for military purposes under the Engle Act.

DATES: Comments must be received on or before December 27, 2010.

ADDRESSES: Comments should be sent to the Bureau of Land Management, Montana State Office, 5001 Southgate Drive, Billings, Montana 59101.

FOR FURTHER INFORMATION CONTACT: Sandra Ward, BLM, Montana State Office at 406-896-5052.

SUPPLEMENTARY INFORMATION: The Assistant Secretary for Land and Minerals Management proposes to withdraw the following described public land located in Broadwater County, Montana, from settlement, sale, location and entry under the general land laws, including the mining laws, subject to valid existing rights, to protect the land pending action on an application for withdrawal of public lands for military purposes under the Engle Act:

Principal Meridian, Montana

T. 6 N., R. 1 E.,

sec. 2, lots 1 to 4, inclusive, S½N½, N½SW¼, SE¼SW¼, and SE¼;

sec. 3, lots 1 to 4, inclusive, S½N½, and S½;

sec. 4, lots 1 to 4, inclusive, S½N½, and S½;

sec. 5, lots 1 and 2, S½NE¼, and SE¼;

sec. 8, E½ and E½SW¼;

secs. 9 and 10;

sec. 11, E½, E½W½, and SW¼SW¼;

sec. 12, lots 1 to 4, inclusive, W½E½ and W½;

sec. 13, lots 1 to 4, inclusive, W½E½ and W½;

secs. 14 and 15;

sec. 17, E½ and E½W½;

sec. 20, E½ and E½W½;

sec. 21;

sec. 22, lots 3 and 4, W½NW¼, and S½SW¼;

sec. 23;

sec. 24, lots 1 to 4, inclusive, W½E½ and W½;

sec. 25, lots 1 to 4, inclusive, W½E½ and W½;

sec. 26;

sec. 27, lots 1 to 9, inclusive, NE¼NE¼, S½NE¼, and SE¼;

sec. 28, lots 1 to 4, inclusive, N½NE¼, W½, and W½SE¼;

sec. 29, NE¼, E½NW¼, NE¼SW¼, N½SE¼, and SW¼SE¼;

sec. 33, E½;

sec. 34, lots 1 to 8, inclusive, NE¼, N½NW¼, and N½SE¼;

sec. 35, lots 1 to 4, inclusive, N½ and N½S½.

T. 6 N., R. 2 E.,

sec. 17, S½SW¼;

sec. 18, lot 4, SE¼SW¼, and S½SE¼;

sec. 19, lots 1, 2, and 3;

sec. 20, W½;

sec. 30, lots 2, 3, and 4, NE¼NE¼, S½NE¼, SE¼NW¼, E½SW¼, and SE¼.

T. 7 N., R. 1 E.,

sec. 26, S½;

sec. 27, lots 5 to 8, inclusive, and S½S½;

sec. 28, S½SE¼;

sec. 32, E½ except patented lands;

secs. 33, 34, and 35.

The area described contains 18,760.63 acres in Broadwater County.

The Assistant Secretary for Land and Minerals Management has approved the Bureau of Land Management's petition for approval to file its withdrawal application. The Assistant Secretary's approval of the petition constitutes her proposal to withdraw the subject lands.

The purpose of the proposed withdrawal is to protect the above-described land pending action on an application for withdrawal of public land for military purposes under the Engle Act. The land is currently used as a military training range involving live-fire exercises necessary for national security.

The use of a right-of-way or cooperative agreement would not provide adequate authorization for the use of this area due to the broad scope of military training exercises, as well as the non-discretionary nature of the mining laws.

There are no suitable alternative sites. The land described above is unique in having been used previously as a military training range with the attendant capital investments. The use of a different site would needlessly degrade a second site and require new capital investments.

Potable water from two wells would be used to meet the daily needs for training exercises. The proposed withdrawal itself would not require any water.

On or before December 27, 2010, all persons who wish to submit comments, suggestions, or objections in connection with the proposed withdrawal may present their views in writing to the BLM Montana State Director at the address indicated above.

Comments and records relating to the proposed withdrawal will be available for public review at the BLM Montana State Office at the address above during regular business hours. Individual respondents may request confidentiality. Before including your address, phone number, e-mail address, or other personal identifying information in your comment, be advised that your entire comment—including your personal identifying information—may be made publicly available at any time. While you can ask us in your comment to withhold from public review your personal identifying information, we cannot guarantee that we will be able to do so.

The proposed withdrawal of public land for military purposes under the Engle Act was discussed at five public meetings as part of the scoping process for the legislative withdrawal Environmental Impact Statement.

This withdrawal proposal will be processed in accordance with the regulations set forth in 43 CFR part 2300.

For a period of 2 years from the date of publication of this notice in the Federal Register, the land will be segregated from settlement, sale, location, and entry under the general land laws, including the mining laws, unless the application is denied or canceled or the withdrawal is approved prior to that date. Land uses currently permitted under the existing right-of-way agreement may continue during the segregative period.

Notice is hereby given that one or more public meetings will be held in connection with the proposed withdrawal. All interested persons who desire a public meeting for the purpose of being heard on the proposed withdrawal must submit a written request to the BLM Montana State Director at the address above by December 27, 2010. A notice of the time and place of any public meetings will be published in the Federal Register and at least one local newspaper at least 30 days before the scheduled date of the meeting.

Authority: 43 CFR 2310.3-1(b)(1).

Gary P Smith,
Acting Chief, Branch of Land Resources, Montana State Office.

[FR Doc. 2010-24281 Filed 9-27-10; 8:45 am]

BILLING CODE 4310-$$-P